DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08W-25A, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on February 1, 2024, through February 29, 2024. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Health Systems Bureau, 5600 Fishers Lane, 08W-25A, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Dominic Roberti, Los Angeles, California, Court of Federal Claims No: 24-0165V

2. Kevin Rowell, Boston, Massachusetts, Court of Federal Claims No: 24-0167V

3. Teresa Porter, Santa Rosa, California, Court of Federal Claims No: 24-0168V

4. Linda Andrade, Corpus Christi, Texas, Court of Federal Claims No: 24-0169V

5. Frank Lopes, Boston, Massachusetts, Court of Federal Claims No: 24-0170V

6. Lynda Louviere, New Iberia, Louisiana, Court of Federal Claims No: 24-0171V

7. Timothy Varn, Marietta, Georgia, Court of Federal Claims No: 24-0173V

8. Jason Schloop and Trista Schloop on behalf of A.G.S., Holly Springs, North Carolina, Court of Federal Claims No: 24-0174V

9. Jason Bembry, Rochester, New York, Court of Federal Claims No: 24-0178V

10. Shawn Dykes, Salisbury, Maryland, Court of Federal Claims No: 24-0179V

11. Juan P. Cruz, Boscobel, Wisconsin, Court of Federal Claims No: 24-0180V

12. Christopher T. Jackson, Boscobel, Wisconsin, Court of Federal Claims No: 24-0181V

13. Jessica Berger, Boston, Massachusetts, Court of Federal Claims No: 24-0182V

14. Sarah Soper, Monroe, Wisconsin, Court of Federal Claims No: 24-0184V

15. Jennifer Kistler, Phoenixville, Pennsylvania, Court of Federal Claims No: 24-0186V

16. Jeffrey Pack, Philadelphia, Pennsylvania, Court of Federal Claims No: 24-0187V

17. Lisa D. DeCarolis, Atlanta, Georgia, Court of Federal Claims No: 24-0188V

18. Kristine Hare, Andover, Minnesota, Court of Federal Claims No: 24-0189V

19. Bert Barclay, Orlando, Florida, Court of Federal Claims No: 24-0192V

20. Adam Meduski, Towson, Maryland, Court of Federal Claims No: 24-0193V

21. William Brimmer, II, Sand Springs, Oklahoma, Court of Federal Claims No: 24-0194V

22. Cynthia Lee, Statesboro, Georgia, Court of Federal Claims No: 24-0195V

23. Houston Byrd, Jr., Newark, Ohio, Court of Federal Claims No: 24-0196V

24. Luis Torres-Pereyra, Los Angeles, California, Court of Federal Claims No: 24-0198V

25. Tapan Roy, Livermore, California, Court of Federal Claims No: 24-0200V

26. Barbara Miles, McKees Rocks, Pennsylvania, Court of Federal Claims No: 24-0203V

27. Jeffrey Carpenter, St. Petersburg, Florida, Court of Federal Claims No: 24-0204V

28. Barbara Campbell, Hardeeville, South Carolina, Court of Federal Claims No: 24-0205V

29. Shirley Ragland, Milwaukee, Wisconsin, Court of Federal Claims No: 24-0206V

30. Robert Ahern, Hickory, North Carolina, Court of Federal Claims No: 24-0208V

31. Jamiera Boone, Los Angeles, California, Court of Federal Claims No: 24-0210V

32. Leah Montevideo, Orlando, Florida, Court of Federal Claims No: 24-0211V

33. Erin Michael, Maple Grove, Minnesota, Court of Federal Claims No: 24-0212V

34. Barbara Brumfield on behalf of Patrick Brumfield, Deceased, Peoria, Arizona, Court of Federal Claims No: 24-0213V

35. Chase Boruch, Waupun, Wisconsin, Court of Federal Claims No: 24-0217V

36. Jennifer L. Walston, Medford, Oregon, Court of Federal Claims No: 24-0218V

37. Melvin Stringfield, Decatur, Georgia, Court of Federal Claims No: 24-0220V

38. Rebecca Rauenbuehler, Mount Pleasant, Iowa, Court of Federal Claims No: 24-0221V

39. Pairlee Vicente, Roseville, California, Court of Federal Claims No: 24-0223V

40. Marlene Civis, Wake Forest, North Carolina, Court of Federal Claims No: 24-0224V

41. Joseph Keaton, Huntington, West Virginia, Court of Federal Claims No: 24-0225V

42. Janet Lotherington, Sarasota, Florida, Court of Federal Claims No: 24-0226V

43. Thomas Lindewirth, Wentzville, Pennsylvania, Court of Federal Claims No: 24-0227V

44. Stella Borou, Fairfax, Virginia, Court of Federal Claims No: 24-0228V

45. Nahed Refaat, Holmdel, New Jersey, Court of Federal Claims No: 24-0229V

46. Roseann West, Washington, Pennsylvania, Court of Federal Claims No: 24-0231V

47. Deanna Cuccia, Monroe, New York, Court of Federal Claims No: 24-0233V

48. Thomas Dewing, Kentland, Indiana, Court of Federal Claims No: 24-0235V

49. Yolanda Walker, Spokane, Washington, Court of Federal Claims No: 24-0238V

50. Megan Berthiaume, Keene, New Hampshire, Court of Federal Claims No: 24-0240V

51. Shelby McDonough on behalf of L.M., Boston, Massachusetts, Court of Federal Claims No: 24-0243V

52. Richard Urias, Sacramento, California, Court of Federal Claims No: 24-0244V

53. Reggie Allen, Boscobel, Wisconsin, Court of Federal Claims No: 24-0246V

54. Jennifer A. Raymer, Fort Worth, Texas, Court of Federal Claims No: 24-0247V

55. Michaela Avila on behalf of B.A., Chico, California, Court of Federal Claims No: 24-0249V

56. Heather Coggins, Los Angeles, California, Court of Federal Claims No: 24-0250V

57. Lauren Killian, Chicago, Illinois, Court of Federal Claims No: 24-0251V

58. Brian Posner, Melbourne, Florida, Court of Federal Claims No: 24-0253V

59. Emma Lee Martin, Billings, Montana, Court of Federal Claims No: 24-0254V

60. Jeanne Richard, Herkimer, New York, Court of Federal Claims No: 24-0255V

61. Efrain Muentes-Marquez, San Jose, California, Court of Federal Claims No: 24-0260V

62. Matthew Raymer, Fort Worth, Texas, Court of Federal Claims No: 24-0261V

63. Alina Hall, Los Angeles, California, Court of Federal Claims No: 24-0263V

64. Erica Iglesias, Richmond, Virginia, Court of Federal Claims No: 24-0264V

65. Matthew Mills, Arlington Heights, Illinois, Court of Federal Claims No: 24-0265V

66. Amber Scott, Temecula, California, Court of Federal Claims No: 24-0266V

67. Daniel Swinton, Pennsauken, New Jersey, Court of Federal Claims No: 24-0267V

68. Autumn Hobson, Alabaster, Alabama, Court of Federal Claims No: 24-0268V

69. Diane Lucash, Belleville, Illinois, Court of Federal Claims No: 24-0269V

70. Marge Lilienthal, Stamford, Connecticut, Court of Federal Claims No: 24-0270V

71. Marvin Kevin Wagner, Sr., Sioux City, Iowa, Court of Federal Claims No: 24-0272V

72. Ashley Klein on behalf of C.K., Naples, Florida, Court of Federal Claims No: 24-0274V

73. George D. Taylor, Milwaukee, Wisconsin, Court of Federal Claims No: 24-0275V

74. Ashley Klein on behalf of R.K., Naples, Florida, Court of Federal Claims No: 24-0276V

75. Richard Lundgren, Collierville, Tennessee, Court of Federal Claims No: 24-0277V

76. Lavall T. Lee, New Lisbon, Wisconsin, Court of Federal Claims No: 24-0278V

77. Natalie Diaz on behalf of A.S., South Orange, New Jersey, Court of Federal Claims No: 24-0279V

78. Krista Reed Choate, Los Angeles, California, Court of Federal Claims No: 24-0280V

79. Monique Padfield, Los Angeles, California, Court of Federal Claims No: 24-0281V

80. Carlo Manuel Juncal, III on behalf of Jennifer Juncal, Deceased, Lakeland, Florida, Court of Federal Claims No: 24-0282V

81. Suzanne Broughton, Wallingford, Connecticut, Court of Federal Claims No: 24-0284V

82. David Hardy, Salt Lake City, Utah, Court of Federal Claims No: 24-0286V

83. Danielle Dolan on behalf of J.D., Chicago, Illinois, Court of Federal Claims No: 24-0289V

84. Epiphanie Musabyemariya, Wappingers Falls, New York, Court of Federal Claims No: 24-0291V

85. Ryan King, Plano, Texas, Court of Federal Claims No: 24-0292V

86. Charles Middleton, Grand Terrace, California, Court of Federal Claims No: 24-0295V

87. Richard Aochi, Riverside, California, Court of Federal Claims No: 24-0296V

88. Jennifer Gastelum, Tacoma, Washington, Court of Federal Claims No: 24-0297V

89. Lorna Munson, Dallas, Texas, Court of Federal Claims No: 24-0298V

90. Ann Kaiser, Carmel, Indiana, Court of Federal Claims No: 24-0299V

91. Melanie Jordan, Washington, District of Columbia, Court of Federal Claims No: 24-0300V

92. Lindsay Fox on behalf of I.M., Plaquemine, Louisiana, Court of Federal Claims No: 24-0302V

93. Fannie Nealy, Fort Pierce, Florida, Court of Federal Claims No: 24-0309V

94. Gregory Rafferty, Milpitas, California, Court of Federal Claims No: 24-0310V

95. Katherine Doyle, Boston, Massachusetts, Court of Federal Claims No: 24-0314V

96. Tina Sylva, Kissimmee, Florida, Court of Federal Claims No: 24-0316V

97. Julia A. Snider, Chicago, Illinois, Court of Federal Claims No: 24-0317V

98. Joshua T. Greeley, Richmond, Virginia, Court of Federal Claims No: 24-0319V

99. Samantha Schneider, Grand Rapids, Michigan, Court of Federal Claims No: 24-0321V

100. Miriam McCleese, Kissimmee, Florida, Court of Federal Claims No: 24-0322V

[FR Doc. 2024-06115 Filed 3-21-24; 8:45 am]

BILLING CODE 4165-15-P